DEPARTMENT OF THE INTERIOR

Bureau of Indian Affairs

Proposed Agency Information Collection Activities; Comment Request

AGENCY: Bureau of Indian Affairs, Interior.

ACTION: Notice of renewal of a current approved information collection.

SUMMARY: As required by the Paperwork Reduction Act of 1995, this notice announces that the Bureau of Indian Affairs (Bureau) proposes to submit the Information Collection Request for the Payment for Appointed Counsel in Involuntary Indian Child Custody Proceedings in State courts to OMB for review and renewal. This information collection is cleared under OMB Control Number 1076-0111 through December 31, 2006.

DATES: Written comments must be submitted on or before September 11, 2006.

ADDRESSES: Send written comments or suggestions directly to Chet Eagleman, Bureau of Indian Affairs, Office of Tribal Services, 1849 C Street, NW., Mail Stop 4513-MIB, Washington, DC 20240. Facsimile number (202) 208-2648.

FOR FURTHER INFORMATION CONTACT: Chet Eagleman, 202-513-7622.

SUPPLEMENTARY INFORMATION:

I. Abstract

A State court that appoints counsel for an indigent Indian parent or Indian custodian in an involuntary Indian child custody proceeding may request reimbursement by sending a written notice to the Bureau of Indian Affairs when appointment of counsel is not authorized by State law. The cognizant Bureau Regional Director uses this information to decide whether to certify that the client in the notice is eligible to have his counsel compensated by the Bureau in accordance with the Indian Child Welfare Act, Public Law 95-608, 92 Stat. 3069.

II. Request for Comments

The Bureau invites comment on:

(a) Whether the collection of information is necessary for the proper performance of the functions of the agency, including whether the information will have practical utility;

(b) The accuracy of the Bureau's estimate of the burden (including hours and cost) of the proposed collection of information, including the validity of the methodology and assumptions used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, disclose or provide information to a Federal agency. This includes the time needed to review instructions; to develop, acquire, install and utilize technology and systems for the purpose of collecting, validating, and verifying information, processing and maintaining information, and disclosing and providing information; to train personnel and to be able to respond to a collection of information, to search data sources, to complete and review the collection of information; and to transmit or otherwise disclose the information.

Our practice is make comments, including names and home addresses of respondents, available for public review during regular business hours. If you wish us to withhold your name and/or address, you must state this prominently at the beginning of your comment. We will honor your request to the extent allowable by law.

An agency may not conduct or sponsor, and a person is not required to respond to a collection of information unless it displays a currently valid Office of Management and Budget control number.

III. Data

Title of the Collection of Information: Payment for Appointed Counsel in Involuntary Indian Child Custody Proceedings in State Courts, 25 CFR 23.13.

OMB Control Number: 1076-0111.

Type of Review: Extension of a currently-approved collection.

Affected Entities: State courts and individual Indians eligible for payment of attorney fees pursuant to 25 CFR 23.13 in order to obtain a benefit.

Estimated number of respondents: 4.

Frequency of response: 1.

Estimate of total annual reporting and record keeping burden that will result from the collection of this information: 12 hours.

Reporting: 2 hours per response × 4 respondents = 8 hours.

Recordkeeping: 1 hour per response × 4 respondents = 4 hours.

Estimated Total Annual Burden Hours: 12 hours.

Estimated Annual Costs: $648.00 (12 hours × $45.00 per hour).

Description of the need for the information and proposed use of the information: Submission of this information is required in order to receive payment for appointed counsel under 25 CFR 23.13. The information is collected to determine applicant eligibility for services.

Dated: July 5, 2006.
Michael D. Olsen,
Principal Deputy Assistant Secretary—Indian Affairs.

[FR Doc. E6-10786 Filed 7-10-06; 8:45 am]

BILLING CODE 4310-4J-P